DEPARTMENT OF TRANSPORTATION

Office of the Secretary

Aviation Proceedings, Agreements Filed the Week Ending July 29, 2005

The following Agreements were filed with the Department of Transportation under the sections 412 and 414 of the Federal Aviation Act, as amended (49 U.S.C. 1382 and 1384) and procedures governing proceedings to enforce these provisions. Answers may be filed within 21 days after the filing of the application.

Docket Number: OST-2005-21999.

Date Filed: July 27, 2005.

Parties: Members of the International Air Transport Association.

Subject:

PTC12 USA-EUR Fares 0101 dated 19 July 2005.

Resolution 015h—USA Add-ons between USA and UK.

Intended effective date: 1 October 2005

Renee V. Wright,
Program Manager, Docket Operations, Federal Register Liaison.

[FR Doc. 05-16188 Filed 8-15-05; 8:45 am]

BILLING CODE 4910-62-P